DEPARTMENT OF EDUCATION

34 CFR Part 75

Office of Elementary and Secondary Education—Safe and Drug-Free Schools and Communities Act Native Hawaiian Program; Direct Grant Program

AGENCY: Department of Education.

ACTION: Notice of final waiver.

SUMMARY: The Secretary waives the requirements in Education Department General Administrative Regulations (EDGAR) at 34 CFR 75.261 in order to extend the project period under the Safe and Drug-Free Schools and Communities Act (SDFSCA) Native Hawaiian Program, under title IV of the Elementary and Secondary Education Act of 1965, as amended (ESEA), from 48 months to up to 72 months. This action allows services under this program to continue uninterrupted and results in the awarding of up to two continuation awards for a total of up to 24 months to the existing grantee, using fiscal year (FY) 1999 and FY 2000 funds.

DATES: This waiver becomes effective February 23, 2000.

FOR FURTHER INFORMATION CONTACT: Elayne McCarthy, U.S. Department of Education, 400 Maryland Avenue, SW, Room 3E322, Washington, DC 20202-6123. Telephone: (202) 260-2831; FAX: (202) 260-7767.

Individuals who use a telecommunications device for the deaf (TDD) may call the Federal Information Relay Service (FIRS) at 1-800-877-8339.

Individuals with disabilities may obtain this document in an alternate format (e.g., Braille, large print, audiotape, or computer diskette) on request to the contact person listed in the preceding paragraph.

SUPPLEMENTARY INFORMATION: In 1994, title I of the Improving America's Schools Act (IASA), Public Law 103-382, reauthorized the ESEA for a period of 5 years (1995-1999). The Safe and Drug-Free Schools and Communities Native Hawaiian Program is authorized by sections 4111(a)(4) and 4118 of the SDFSCA, which is title IV of ESEA. Section 4118(a) of the SDFSCA authorizes the Secretary to make grants to or enter into cooperative agreements or contracts with “organizations primarily serving and representing Native Hawaiians which are recognized by the Governor of the State of Hawaii to plan, conduct, and administer programs, or portions thereof, which are authorized by and consistent with the provisions of SDFSCA for the benefit of Native Hawaiians.” Section 4118(b) of the SDFSCA defines the term “Native Hawaiian” as any individual whose ancestors were natives, prior to 1778, of the area which now comprises the State of Hawaii.

In 1995 the Department held a competition under section 4118 of the SDFSCA among the eligible entities for the SDFSCA Native Hawaiian Program. As a result of that competition, the Secretary awarded a grant to one entity with FY 1995 funds for a project period of 48 months, based on the grant application. Since that time, the grantee for the SDFSCA Native Hawaiian Program under the SDFSCA has received continuation awards with funds from three subsequent fiscal years (FY 1996, FY 1997, and FY 1998). The grantee has received approximately $1 million per year.

As of the date of publication of this final notice, the ESEA has not been reauthorized, and the current authorization has been extended into FY 2000. This waiver allows the period of funding for the SDFSCA Native Hawaiian Program to be directly tied to the time period for reauthorization of the current ESEA, including SDFSCA. This waiver for the SDFSCA Native Hawaiian Program is in force only as long as the current SDFSCA is in effect and will terminate upon reauthorization of ESEA.

If the Department were to hold a new competition under the existing legislation in FY 2000 (using FY 1999 funds), the Department would only fund the project for a limited project period up to 24 months, in anticipation that the program statute would be reauthorized prior to FY 2001. It would take a new grantee much of this time to ‘start up’, given the scope and complexity of the services provided and the time it takes to hire qualified staff and develop plans and relationships that are responsive to the Native Hawaiian population in the Hawaiian islands. Holding such a competition would impose additional costs at the Federal level without a guarantee that the new grantee would be able to provide the technical assistance and services necessary to schools and communities serving the Native Hawaiian population, as the Department moves towards reauthorization of ESEA. Therefore, in the best interest of the Federal Government, the Assistant Secretary extends the current project for up to two additional years and waives the regulation at 34 CFR 75.261, which permits extensions of projects only at no cost to the Federal Government. This action is consistent with the President's mandate to implement cost-effective, cost-saving initiatives.

On October 6, 1999, the Secretary published a notice of proposed waiver (64FR 54254-54255) for the Safe and Drug-Free Schools and Communities Act Native Hawaiian Program. In the notice of proposed waiver the Secretary invited public comments. The Secretary received one comment that did not propose a substantive change, and therefore is not addressed in this final notice of waiver.

Intergovernmental Review

This program is subject to the requirements of Executive Order 12372 and the regulations in 34 CFR 79. The objective of the Executive order is to foster an intergovernmental partnership and a strengthened federalism by relying on processes developed by State and local governments for coordination and review of proposed Federal financial assistance. In accordance with this order, this document is intended to provide early notification of the Department's specific plans and actions for this program.

Program Authority: 20 U.S.C. 7111(a)(4); 20 U.S.C. 7118.

Waiver of Delayed Effective Date

The Secretary waives the delayed effective date under 5 U.S.C. 553(d) as unnecessary and contrary to the public interest. This notice extends the grant period for the current SDFSCA Native Hawaiian Program grantee to ensure continuation of services while the current SDFSCA is in force. It will terminate upon reauthorization of ESEA. A delayed effective date would serve no useful purpose.

Electronic Access to This Document

You may view this document, as well as all other Department of Education documents published in the Federal Register, in text or Adobe Portable Document Format (PDF) on the Internet at either of the following sites:

http://ocfo.ed.gov/fedreg.htm

http://www.ed.gov/news.html

To use PDF you must have the Adobe Acrobat Reader Program with Search, which is available free at either of the previous sites. If you have questions about using the PDF, call the U.S. Government Printing Office (GPO), toll free, at 1-888-293-6498; or in the Washington, DC, area (202) 512-1530.

Note: The official version of this document is the document published in the Federal Register. Free Internet access to the official edition of the Federal Register and the Code of Federal Regulations is available on GPO Access at: http://www.access.gpo.gov/nara/index.html.

Catalog of Federal Domestic Assistance Number 84.186C.

Dated: February 17, 2000.
Michael Cohen,
Assistant Secretary for Elementary and Secondary Education.

[FR Doc. 00-4260 Filed 2-22-00; 8:45 am]

BILLING CODE 4000-01-M